NATIONAL AERONAUTICS AND SPACE ADMINISTRATION

[Notice 00-090]

NASA Advisory Council (NAC), Aero-Space Technology Advisory Committee (ASTAC); Information Technology Subcommittee; Meeting

AGENCY: National Aeronautics and Space Administration.

ACTION: Notice of meeting.

SUMMARY: In accordance with the Federal Advisory Committee Act, Pub. L. 92-463, as amended, the National Aeronautics and Space Administration announces a forthcoming meeting of the NASA Advisory Council, Aerospace Technology Advisory Committee, Information Technology Subcommittee meeting.

DATES: Wednesday, August 30, 2000, 8:30 a.m. to 5:00 p.m. and Thursday, August 31, 2000, 8:30 a.m. to 12:00 p.m.

ADDRESSES: National Aeronautics and Space Administration, Glenn Research Center, Building 77, Room 217, Cleveland, OH 44135.

FOR FURTHER INFORMATION CONTACT: Dr. Eugene L. Tu, National Aeronautics and Space Administration, Ames Research Center, Moffett Field, CA 94035, 650/604-4486.

SUPPLEMENTARY INFORMATION: The meeting will be open to the public up to the seating capacity of the room. The agenda for the meeting is as follows:

—Overview of Information Technology Base Research at Glenn

—Integrated Instrumentation and Testing Systems

—Intelligent System Controls and Operations

—Software Integrity, Productivity and Security

—Discussions

It is imperative that the meeting be held on these dates to accommodate the scheduling priorities of the key participants.

Dated: July 25, 2000.
Matthew M. Crouch,
Advisory Committee Management Officer, National Aeronautics and Space Administration.

[FR Doc. 00-19441 Filed 8-2-00 8:45 am]

BILLING CODE 7510-01-U